COMMISSION ON CIVIL RIGHTS

Notice of Public Meeting of the Massachusetts Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Massachusetts Advisory Committee to the Commission will convene by conference call on Tuesday, June 23, 2020 at 12:00 p.m. (EDT). The purpose of the web conference is to hear from advocates and others on water issues in Massachusetts.

DATES: Tuesday, June 23, 2020 at 12:00 p.m. (EDT).

Public Call-In Information: 1-800-367-2403; conference ID: 1503627; to view the video portion, https://cc.readytalk.com/r/a8xcvcm2ld60&eom.

FOR FURTHER INFORMATION CONTACT: Evelyn Bohor at ero@usccr.gov or by phone at 202-376-7533.

SUPPLEMENTARY INFORMATION: Interested members of the public may listen to the discussion by calling the following toll-free conference call-in numbers: 1-800-367-2403; conference ID: 1503627. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-800-877-8339 and providing the operator with the toll-free conference call-in numbers: 1-800-367-2403; conference ID: 1503627.

Members of the public are invited to make statements during the open comment period of the meeting or submit written comments. The comments must be received in the regional office approximately 30 days after each scheduled meeting. Written comments may be emailed to Evelyn Bohor at ero@usccr.gov. Persons who desire additional information may contact the Eastern Regional Office at (202) 376-7533.

Records and documents discussed during the meeting will be available for public viewing as they become available at this FACA link, click the “Meeting Details” and “Documents” links. Records generated from this meeting may also be inspected and reproduced at the Eastern Regional Office, as they become available, both before and after the meetings. Persons interested in the work of this advisory committee are advised to go to the Commission's website, www.usccr.gov, or to contact the Eastern Regional Office at the above phone numbers, email or street address.

Agenda: Tuesday, June 23, 2020 at 12:00 p.m. (EDT)

1. Roll Call

2. Web Briefing on Water Project

3. Next Steps

4. Open Comment

5. Adjourn

Dated: June 3, 2020.
David Mussatt,
Supervisory Chief, Regional Programs Unit.

[FR Doc. 2020-12341 Filed 6-5-20; 8:45 am]

BILLING CODE P